DEPARTMENT OF COMMERCE

International Trade Administration

[C-570-938]

Citric Acid and Certain Citrate Salts from the People's Republic of China: Notice of Rescission of Countervailing Duty Administrative Review, in Part

AGENCY: Import Administration, International Trade Administration, Department of Commerce.

DATES: Effective Date: September 12, 2012.

FOR FURTHER INFORMATION CONTACT: Kristen Johnson, AD/CVD Operations, Office 3, Import Administration, International Trade Administration, U.S. Department of Commerce, Room 4014, 14th Street and Constitution Ave. NW., Washington, DC 20230, telephone: (202) 482-4793

SUPPLEMENTARY INFORMATION:

Background

On May 1, 2012, the Department of Commerce (the Department) published a notice of opportunity to request an administrative review of the countervailing duty (CVD) order on citric acid and certain citrate salts from the People's Republic of China.¹ On May 31, 2012, we received a request from Archer Daniels Midland Company, Cargill, Incorporated, and Tate & Lyle Ingredients Americas LLC, domestic producers of the subject merchandise and petitioners in the investigation (collectively, the Petitioners), to conduct an administrative review of Yixing-Union Biochemical Co., Ltd. (Yixing-Union).²

¹ See Antidumping or Countervailing Duty Order, Finding, or Suspended Investigation; Opportunity To Request Administrative Review, 77 FR 25679 (May 1, 2012).

² Petitioners also requested a review of RZBC Co., Ltd., RZBC Imp. & Exp. Co., Ltd., and RZBC (Juxian) Co., Ltd. (collectively, the RZBC Companies). See Letter from petitioners to the Department regarding “Request for Administrative Review,” dated May 31, 2012. This public document and all other public documents and public versions generated in the course of this review by the Department and interested parties are on file electronically via Import Administration's Antidumping and Countervailing Duty Centralized Electronic Service System (IA ACCESS). IA ACCESS is available to registered users at http://iaaccess.trade.gov and in the Central Records Unit (CRU), room 7046 of the main Department of Commerce building. In addition, a complete version of this notice can be accessed directly on the Internet at http://www.trade.gov/ia/.

On July 10, 2012, the Department published the notice of initiation of the administrative review for the review period January 1, 2011, through December 31, 2011 (POR), which covered Yixing-Union and the RZBC Companies.³ On July 13, 2012, Yixing-Union submitted a letter certifying that it had no sales, shipments, or exports of subject merchandise to the United States during the POR. On August 8, 2012, the Department published a notice of intent to rescind Yixing-Union's administrative review and invited interested parties to comment.⁴ We received no comments, and have determined that the review of Yixing-Union should be rescinded.

³ See Initiation of Antidumping and Countervailing Duty Administrative Reviews and Request for Revocation in Part, 77 FR 40565, 40573 (July 10, 2012).

⁴ See Citric Acid and Certain Citrate Salts from the People's Republic of China: Intent to Rescind Countervailing Duty Administrative Review, in Part, 77 FR 47370 (August 8, 2012).

Scope of the Order

The scope of the order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend. The scope of the order also includes all forms of crude calcium citrate, including dicalcium citrate monohydrate, and tricalcium citrate tetrahydrate, which are intermediate products in the production of citric acid, sodium citrate, and potassium citrate. The scope of the order does not include calcium citrate that satisfies the standards set forth in the United States Pharmacopeia and has been mixed with a functional excipient, such as dextrose or starch, where the excipient constitutes at least 2 percent, by weight, of the product. The scope of the order includes the hydrous and anhydrous forms of citric acid, the dihydrate and anhydrous forms of sodium citrate, otherwise known as citric acid sodium salt, and the monohydrate and monopotassium forms of potassium citrate. Sodium citrate also includes both trisodium citrate and monosodium citrate, which are also known as citric acid trisodium salt and citric acid monosodium salt, respectively. Citric acid and sodium citrate are classifiable under 2918.14.0000 and 2918.15.1000 of the Harmonized Tariff Schedule of the United States (HTSUS), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, the written description of the merchandise is dispositive.

Partial Rescission of Review

Pursuant to 19 CFR 351.213(d)(3), the Department may rescind an administrative review, with respect to a particular exporter or producer, if the Secretary concludes that, during the period covered by the review, there were no entries, exports, or sales of the subject merchandise to the United States by that producer. Yixing-Union submitted a letter on July 13, 2012, certifying that it did not have sales, shipments, or exports of subject merchandise to the United States during the POR. We received no comments from any interested party on Yixing-Union's no-shipment claim.

We conducted an internal customs data query for the POR and issued a “no shipments inquiry” message to U.S. Customs and Border Protection (CBP), which posted the message on July 17, 2012.⁵ The results of the customs data query indicated that there were no entries of subject merchandise to the United States by Yixing-Union during the POR. We did not receive any information from CBP contrary to Yixing-Union's claim of no sales, shipments, or exports of subject merchandise to the United States during the POR.

⁵ See Memorandum to the File from Kristen Johnson, Trade Analyst, AD/CVD Operations, Office 3, regarding “Release of Results of Query Performed on Customs and Border Protection Trade Data Base,” (July 10, 2012) and

Customs message number 2199302, available at http://addcvd.cbp.gov or IA ACCESS.

Based on our analysis of the shipment data, we determine that Yixing-Union had no entries of subject merchandise to the United States during the POR. Therefore, in accordance with 19 CFR 351.213(d)(3), and consistent with our practice,⁶ we determine to rescind the review for Yixing-Union. We will continue this administrative review with respect to the RZBC Companies.

⁶ See, e.g., Welded Carbon Steel Standard Pipe and Tube from Turkey: Notice of Rescission of Countervailing Duty Administrative Review, in Part, 74 FR 47921 (September 18, 2009).

We are issuing this notice in accordance with sections 751(a)(1) and 777(i)(1) of the Tariff Act of 1930, as amended, and 19 CFR 351.213(d)(4) of the Department's regulations.

Dated: August 31, 2012.
Christian Marsh,
Deputy Assistant Secretary for Antidumping and Countervailing Duty Operations.

[FR Doc. 2012-22474 Filed 9-11-12; 8:45 am]

BILLING CODE 3510-DS-P